DEPARTMENT OF COMMERCE

National Oceanic and Atmospheric Administration

RIN 0648-XB164

Western Pacific Fishery Management Council; Public Meeting

AGENCY: National Marine Fisheries Service (NMFS), National Oceanic and Atmospheric Administration (NOAA), Commerce.

ACTION: Notice of public meetings.

SUMMARY: The Western Pacific Fishery Management Council (Council) will hold a meeting of its Pelagics Plan Team (PPT) in Honolulu, HI to discuss fishery issues and develop recommendations for future management.

DATES: The meeting of the PPT will be held between May 15, 2012 and May 17 2012, from 8:30 a.m. to 5 p.m. See SUPPLEMENTARY INFORMATION for specific dates and times.

ADDRESSES: The meeting will be held at the Council Office Conference Room, Western Pacific Fishery Management Council, 1164 Bishop St., Suite 1400, Honolulu, HI 96813; telephone: (808) 522-8220.

FOR FURTHER INFORMATION CONTACT: Kitty M. Simonds, Executive Director; telephone: (808) 522-8220.

SUPPLEMENTARY INFORMATION: The PPT will meet at the Council Conference Room to discuss the following agenda items:

Tuesday, May 15, 2012, 8:30 a.m.

1. Introduction

2. Annual Report review

a. Review of 2011 Annual Report modules and recommendations

i. Commonwealth of the Northern Mariana Islands (CNMI)

ii. American Samoa

iii. Guam

iv. Hawaii

v. International

vi. Recreational

b. 2011 Annual Report region wide recommendations

Wednesday-Thursday, May 16-17, 2012, 8:30 a.m.

3. Hawaii pelagics annual report module changes

4. American Samoa annual report module changes

5. Summary of current Pelagics Fishery Ecosystem Plan amendment actions

6. Value of marker (>100 pounds) bigeye tuna in relation to proposed False Killer Whale management measures

7. Outcomes of the eighth meeting of the Western and Central Pacific Fishery Commission

8. Other business

9. Public comment

10. Pelagic Plan Team Recommendations

The order in which the agenda items are addressed may change. The PPT will meet as late as necessary to complete scheduled business.

Although non-emergency issues not contained in this agenda may come before the PPT for discussion, those issues may not be the subject of formal action during these meetings. Plan Team action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 10, 2012.
Tracey L. Thompson,
Acting Director, Office of Sustainable Fisheries, National Marine Fisheries Service.

[FR Doc. 2012-8949 Filed 4-12-12; 8:45 am]

BILLING CODE 3510-22-P